SMALL BUSINESS ADMINISTRATION

[Declaration of Disaster #3635]

State of Florida; Amendment #5

In accordance with a notice received from the Department of Homeland Security—Federal Emergency Management Agency—effective December 28, 2004, the above numbered declaration is hereby amended to extend the deadline for filing applications for physical damages as a result of this disaster to February 28, 2005.

All other information remains the same, i.e., the deadline for filing applications for economic injury is June 27, 2005.

(Catalog of Federal Domestic Assistance Program Nos. 59002 and 59008)
Dated: December 29, 2004.
S. George Camp,
Acting Associate Administrator for Disaster Assistance.

[FR Doc. 05-363 Filed 1-6-05; 8:45 am]

BILLING CODE 8025-01-P